DEPARTMENT OF LABOR

Employment and Training Administration

[TA-W-74,733]

Xpedite Systems, LLC; a Subsidiary of EasyLink Services International Corporation, Deerfield Beach, FL; Notice of Affirmative Determination Regarding Application for Reconsideration

By application dated February 21, 2011, petitioners requested administrative reconsideration of the negative determination regarding workers' eligibility to apply for Trade Adjustment Assistance (TAA) applicable to workers and former workers of Xpedite Systems, LLC, a subsidiary of EasyLink Services International Corporation, Deerfield Beach, Florida (subject firm). The determination was issued on January 26, 2011. The Department's Notice of Determination was published in the Federal Register on February 2, 2011 (76 FR 7588). The workers provide communication, applications, and support services.

The negative determination was based on the findings that imports of services like or directly competitive with those supplied by the workers did not increase during the relevant period; there has not been a shift to a foreign country by the workers' firm in the supply of (like or directly competitive) services; and the subject firm did not supply a service that was used by a firm that employed a worker group eligible to apply for TAA and used the services supplied by the subject firm in the production of an article or supply of a service that was the basis for the afore-mentioned TAA certification.

In the request for reconsideration, the petitioners alleged that “there was a contract between Xpedite and AppLabs, an Indian company, to do customer development work. * * * AppLabs employees located in India are writing/testing custom software applications on Xpedite's platform.”

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 4th day of March 2011.
Del Min Amy Chen,
Certifying Officer, Office of Trade Adjustment Assistance.

[FR Doc. 2011-6188 Filed 3-16-11; 8:45 am]

BILLING CODE 4510-FN-P